FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street, SW., Washington, DC 20472, (202) 646-3461, or (email) mike.grimm@fema.gov.

SUPPLEMENTARY INFORMATION: The Federal Emergency Management Agency makes the final determinations listed below of modified base flood elevations for each community listed. These modified elevations have been published in newspapers of local circulation and 90 days have elapsed since that publication. The Administrator has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4. National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and County | Location | Dates and name of newspaper where notice was published | Chief Executive officer of community | Effective date of modification | Community number
Alabama: Lee—(FEMA Docket No. D-7525) | City of Auburn | August 1, 2002; August 8, 2002; Opelika-Auburn News | The Honorable Bill Ham, Jr., Mayor of the City of Auburn, 144 Tichenor Avenue, Auburn, Alabama 36830 | May 20, 2002 | 010144 E
Alabama: Jefferson—(FEMA Docket No. D-7525) | Unincorporated Areas | May 17, 2002; May 22, 2002; The Birmingham News | Mr. Gary White, President of the Jefferson County, Commission Courthouse, Room 680A, 716 Richard Arrington Jr., Boulevard North, Birmingham, Alabama 35203 | August 21, 2002 | 010217 E
Alabama: Mobile—(FEMA Docket No. D-7525) | Unincorporated Areas | April 17, 2002; April 24, 2002; Mobile Register | Mr. Joe W. Ruffer,Director of Public Works, Mobile Government Plaza, 205 Government Street, Mobile, Alabama 36604-1600 | April 10, 2002 | 015008 J
Connecticut: Fairfield—(FEMA Docket No. D-7527) | City of Danbury | June 6, 2002; June 13, 2002; The News-Times | The Honorable Mark D. Boughton, Mayor of the City of Danbury, 155 Deer Hill Avenue, Danbury, Connecticut 06810 | September 12, 2002 | 090004 B
Delaware: New Castle—(FEMA Docket No. D-7525) | Unincorporated Areas | March 25, 2002; April 1, 2002; The News Journal | Mr. Thomas P. Gordon, New Castle County Executive, Castle County Government Center, 87 Reads Way, New Castle, Delaware 19720 | July 1, 2002 | 105085 D
Florida: Clay—(FEMA Docket No. D-7527) | Unincorporated Areas | July 24, 2002; July 31, 2002; The Florida Times-Union | Mr. Robert M. Wilson, Clay County Manager, P.O. Box 1366, Green Cove Springs, Florida 32043 | July 17, 2002 | 120064 D
Florida: Lee—(FEMA Docket No. D-7527) | Unincorporated Areas | June 28, 2002; July 5, 2002; News-Press | Mr. Robert Janes, Chairman of the Lee County, Board of Commissioners, P.O. Box 398, Fort Myers, Florida 33902-0398 | June 21, 2002 | 125124 D&E
Florida: Polk—(FEMA Docket No. D-7527) | City of Lakeland | April 3, 2002; April 10, 2002; The Ledger | Mr. Roger D. Haar, City Manager for the City of Lakeland, Lakeland City Hall, 228 South Massachusetts Avenue, Lakeland, Florida 33801-5086 | March 27, 2002 | 120267 F
Florida: Polk—(FEMA Docket No. D-7527) | Unincorporated Areas | August 1, 2002; August 8, 2002; The Ledger | Mr. Jim W. Keene, Polk County Manager, 330 West Church Street, P.O. Box 9005, Drawer CA01, Bartow, Florida 33831-9005 | May 14, 2002 | 120261 F
Georgia:Fulton—(FEMA Docket No. D-7525) | City of Alpharetta | March 28, 2002; April 4, 2002; The Revue & News | The Honorable Charles E. Martin, Mayor of the City of Alpharetta, City Hall, Two South Main Street, Alpharetta, Georgia 30004 | March 21, 2002 | 130084 D
Kentucky: Daviess—(FEMA Docket No. D-7527) | City of Owensboro | August 5, 2002; August 12, 2002; Messenger-Inquirer | The Honorable Waymond O. Morris, Mayor of the City of Owensboro, P.O. Box 10003, Owensboro, Kentucky 42302-9003 | November 11, 2002 | 210063 C
Maine: Penobscot—(FEMA Docket No. D-7527) | City of Brewer | June 4, 2002; June 11, 2002; Bangor Daily News | The Honorable Michael Celli, Mayor of the City of Brewer, City Hall, 80 North Main Street, Brewer, Maine 04412 | September 10, 2002 | 230104 B
Maryland: Frederick—(FEMA Docket No. D-7527) | Unincorporated Areas | July 22, 2002; July 29, 2002; Frederick News Post | Mr. Ron Hart, Frederick County Manager, 12 East Church Street, Frederick, Maryland 21701 |  | 240027 A
Michigan: Oakland—(FEMA Docket No. D-7527) | City of Novi | July 4, 2002; July 11, 2002; Novi News | The Honorable Richard Clark, Mayor of the City of Novi, Civic Center, 45175 West Ten Mile Road, Novi, Michigan 48375-3024 | June 25, 2002 | 260175 C
Michigan: Macomb—(FEMA Docket No. D-7527) | City of Sterling Heights | June 9, 2002; June 16, 2002; The Source | The Honorable Richard J. Notte, Mayor of the City of Sterling Heights, P.O. Box 8009, 40555 Utica Road, Sterling Heights, Michigan 48311-8009 | July 3, 2002 | 260128 E
Mississippi: Lafayette—(FEMA Docket No. D-7527) | City of Oxford | May 22, 2002; May 29, 2002; Oxford Eagle | The Honorable Richard Howorth, Mayor of the City of Oxford, City Hall, 107 Courthouse Square, Oxford, Mississippi 38655 | August 21, 2002 | 280094 B
North Carolina: Durham—(FEMA Docket No. D-7525) | City of Durham | June 4, 2002; June 11, 2002; The Herald-Sun | The Honorable William V. Bell, Mayor of the City of Durham, 101 City Hall Plaza, Durham, North Carolina 27701 | September 10, 2002 | 370086 G
North Carolina: Durham—(FEMA Docket No. D-7525) | Unincorporated Areas | June 4, 2002; June 11, 2002; The Herald-Sun | Mr. Michael M. Ruffin, Durham County Manager, 200 East Main Street, 2nd Floor, Durham, North Carolina 27701 | September 10, 2002 | 370085 G
North Carolina: Wake—(FEMA Docket No. D-7529) | Town of Wake Forest | May 9, 2002; May 16, 2002; The Wake Weekly | The Honorable George C. Mackie, Jr., Mayor of the Town of Wake Forest, 401 Elm Street, Wake Forest, North Carolina 27587 | May 2, 2002 | 370244 E
Ohio: Franklin—(FEMA Docket No. D-7527) | Unincorporated Areas | June 5, 2002; June 12, 2002; Daily Reporter | Ms. Arline Shoemaker, President, Franklin County Board of Commissioners, 373 South High Street, 26th Floor, Columbus, Ohio 43215 | September 11, 2002 | 390167 G
Ohio: Franklin—(FEMA Docket No. D-7529) | City of Grove City | June 5, 2002; June 12, 2002; Grove City Record | The Honorable Cheryl Grossman, Mayor of the City of Grove City, 4035 Broadway, Grove City, Ohio 43123 | September 11, 2002 | 390173 G
Ohio: Franklin—(FEMA Docket No. D-7527) | Village of Urbancrest | June 5, 2002; June 12, 2002; Grove City Record | The Honorable Marlin R. West, Mayor of the Village of Urbancrest, 3357 Central Avenue, Urbancrest, Ohio 43123 | September 11, 2002 | 390893 G
Pennsylvania: Chester—(FEMA Docket No. D-7523) | Township of East Bradford | April 25, 2002; May 2, 2002; Daily Local News | Mr. John T. Jordan, Chairman of the Township of East Bradford Board of Supervisors, 666 Copeland School Road, West Chester, Pennsylvania 19380 | August 1, 2002 | 420276 D
Pennsylvania: Montgomery—(FEMA Docket No. D-7525) | Borough of Emsworth | May 29, 2002; June 5, 2002; The Citizen | The Honorable Keith Johnston, Mayor of the Borough of Emsworth, 171 Center Avenue, Pittsburgh, Pennsylvania 15202 | September 4, 2002 | 420034 D
Pennsylvania: Allegheny—(FEMA Docket No. D-7527) | City of Pittsburgh | July 9, 2002; July 16, 2002; Pittsburgh Post Gazette | The Honorable Thomas Murphy, Mayor of the City of Pittsburgh, 5th Floor, City-County Building, 414 Grant Street, Pittsburgh, Pennsylvania 15219 | October 15, 2002 | 4200063
Puerto Rico (FEMA Docket No. D-7525) | Commonwealth | May 31, 2002; June 7, 2002; The San Juan Star | The Honorable Sila Maria Calderon, Governor of the Commonwealth of Puerto Rico, Office of the Governor, P.O. Box 9020082, San Juan, Puerto Rico 00901 | September 6, 2002 | 720000 E
Rhode Island: Washington—(FEMA Docket No. D-7527) | Town of Westerly | June 19, 2002; June 26, 2002; The Westerly Sun | Mr. Samuel Azzinaro, Westerly Town Council President, Westerly Town Hall, 45 Broad Street, Westerly, Rhode Island 02891 | June 12, 2002 | 445410 E
Tennessee: Fayette—(FEMA Docket No. D-7527) | Unincorporated Areas | May 22, 2002; May 29, 2002; The Fayette Falcon | The Honorable Jim Voss, Mayor of Fayette County, P.O. Box 218, Somerville, Tennessee 38068 | August 28, 2002 | 470352 B
Tennessee: Sumner and Davison—(FEMA Docket No. D-7525) | City of Goodlettsville | August 5, 2002; August 12, 2002; The Tennessean | The Honorable Bobby T. Jones, Mayor of the City of Goodlettsville, 105 South Main Street, Goodlettsville, Tennessee 37072 | November 22, 2002 | 470287 F
Virginia: Augusta—(FEMA Docket No. D-7527) | Unincorporated Areas | May 28, 2002; June 4, 2002; The Daily News Record | Mr. Patrick J. Coffield, Augusta County Administrator, P.O. Box 590, Verona, Virginia 24482-0590 | September 3, 2002 | 510013 B
Virginia: Henrico—(FEMA Docket No. D-7527) | Unincorporated Areas | July 19, 2002; July 26, 2002; The Richmond Times | Mr. James B. Donati, Jr., Chairman of the Henrico County, Board of Supervisors, P.O. Box 27032, Richmond, Virginia 23273 | October 25, 2002 | 510077 B
Virginia: Loudoun—(FEMA Docket No. D-7525) | Unincorporated Areas | June 12, 2002; June 19, 2002; Loudoun Times Mirror | Mr. Kirby Bowers, Loudoun County Administrator, 1 Harrison Street, S.E., 5th Floor, P.O. Box 7000, Leesburg, Virginia 20177-7000 | June 3, 2002 | 510090 D
Virginia: Loudoun—(FEMA Docket No. D-7525) | Unincorporated Areas | May 15, 2002; May 22, 2002; Loudoun Times Mirror | Mr. Kirby Bowers, Loudoun County Administrator, 1 Harrison Street, S.E., 5th Floor, P.O. Box 7000, Leesburg, Virginia 20177-7000 | August 21, 2002 | 510090 D

(Catalog of Federal Domestic Assistance No. 83.100, “Flood Insurance.”)
Dated: December 31, 2002.
Anthony S. Lowe,
Administrator, Federal Insurance and Mitigation Administration.

[FR Doc. 03-607 Filed 1-10-03; 8:45 am]

BILLING CODE 6718-04-P